NUCLEAR REGULATORY COMMISSION

[Docket Nos. 70-7001 And 70-7002]

Paducah Gaseous Diffusion Plant; Portsmouth Gaseous Diffusion Plant; United States Enrichment Corporation; Notice of Request for Certificate Renewal and Opportunity for Comment

I. Receipt of Application and Availability of Documents

Notice is hereby given that the U. S. Nuclear Regulatory Commission (NRC or the Commission) has received by letters dated April 10, 2008, applications from the United States Enrichment Corporation (USEC) for the renewal of the 10 CFR Part 76 certificates of compliance for the gaseous diffusion plants (GDPs) located near Paducah, Kentucky and Piketon, Ohio. The NRC issued the initial certificates of compliance for the GDPs on November 26, 1996 and assumed regulatory oversight for the GDPs on March 3, 1997. The GDPs were last issued renewed certificates of compliance on December 29, 2003 and those certificates expire December 31, 2008. The USEC renewal requests are for a five-year period, extending from the current expiration date of December 31, 2008 to December 31, 2013. The USEC applications for renewal do not contain any other changes to the existing Application and Safety Analysis Report. The USEC application for the renewal of the Paducah Gaseous Diffusion Plant is based on USEC's previous application, as revised through Revision 111 dated April 4, 2008. No additional changes to the application are requested.

The USEC application for the renewal of the Portsmouth Gaseous Diffusion Plant is based on USEC's previous application, as revised through Revision 89 dated April 15, 2008. No additional changes to the application are requested.

Copies of the renewal application for certification (except for classified and proprietary portions which are withheld in accordance with 10 CFR 2.390, “Availability of Public Records”) are available for inspection at NRC's Public Electronic Reading Room at http://www.nrc.gov/reading-rm/adams.html (ML081070220 and ML081070229). Documents may also be examined and/or copied for a fee, at the NRC's Public Document Room, located at One White Flint North, 11555 Rockville Pike, Rockville, MD 20852.

II. Notice of Comment Period

Pursuant to 10 CFR 76.37(b), any interested party may submit written comments on the application for renewal of the certificate of compliance, for either the Paducah plant or the Portsmouth plant for consideration by the staff. To be certain of consideration, comments must be received by June 9, 2008.

Comments received after the due date will be considered, if it is practical to do so, but the Commission is able to assure consideration only for comments received on or before this date. Written comments on the application should be mailed to the Chief, Rules Review and Directives Branch, Office of Administration, U.S. Nuclear Regulatory Commission, Washington, DC 20555, or may be hand delivered to 11545 Rockville Pike, Rockville, MD 20852 between 7:45 a.m. and 4:15 p.m. Federal workdays. Comments should be legible and reproducible and include the name, affiliation (if any) and address of the comment provider. All comments received by the Commission will be made available for public inspection at the Commission's Public Document Room located in Rockville, MD.

In addition, the NRC will conduct public meetings, in the vicinity of both GDPs, in May and June of 2008. Notice of the meetings will be posted on the NRC Web site, http://www.nrc.gov/public-involve/public-meetings/index.cfm.

Following evaluation of USEC's applications for renewal and any public comments received, the NRC staff will issue a written Director's decision and publish notice of the decision in the Federal Register. Upon publication of the notice of decision, any person whose interest may be affected may then request review of the decision within 30 days, pursuant to 10 CFR 76.62(c) or 76.64(d), whichever applies.

III. Further Information

For further information, please contact Mr. Michael G. Raddatz, at (301) 492-3108 of the Office of Nuclear Material Safety and Safeguards, U.S. Nuclear Regulatory Commission, Washington, DC 20555.

Dated at Rockville, Maryland, this 29th day of April, 2008.
For the Nuclear Regulatory Commission.
Michael F. Weber,
Director, Office of Nuclear Material Safety and Safeguards.

[FR Doc. E8-10284 Filed 5-7-08; 8:45 am]

BILLING CODE 7590-01-P